SMALL BUSINESS ADMINISTRATION

[Disaster Declaration #17640 and #17641; PUERTO RICO Disaster Number PR-00042]

Presidential Declaration Amendment of a Major Disaster for the Commonwealth of Puerto Rico

AGENCY: U.S. Small Business Administration.

ACTION: Amendment 2.

SUMMARY: This is an amendment of the Presidential declaration of a major disaster for the Commonwealth of Puerto Rico (FEMA-4671-DR), dated 09/21/2022.

Incident: Hurricane Fiona.

Incident Period: 09/17/2022 and continuing.

DATES: Issued on 09/26/2022.

Physical Loan Application Deadline Date: 11/21/2022.

Economic Injury (EIDL) Loan Application Deadline Date: 06/21/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Puerto Rico, dated 09/21/2022, is hereby amended to include the following areas as adversely affected by the disaster:

Primary Municipalities (Physical Damage and Economic Injury Loans): Arecibo, Barceloneta, Cabo Rojo, Camuy, Guanica, Lajas, Loiza, Manati, Sabana Grande, San German.

Contiguous Municipalities (Economic Injury Loans Only):

Puerto Rico: Quebradillas.

All other information in the original declaration remains unchanged.

(Catalog of Federal Domestic Assistance Number 59008.)

Rafaela Monchek,
Acting Associate Administrator for Disaster Assistance.

[FR Doc. 2022-21484 Filed 10-3-22; 8:45 am]

BILLING CODE 8026-09-P